DEPARTMENT OF ENERGY

Federal Energy Regulatory Commission

Combined Notice of Filings No. 1

October 13, 2010.

Take notice that the Commission has received the following Natural Gas Pipeline Rate and Refund Report filings:

Docket Numbers: RP11-50-000.

Applicants: Fayetteville Express Pipeline LLC.

Description: Fayetteville Express Pipeline LLC submits Part 6, Section 9. Overrun, Unauthorized Overrun Gas Charges; Penalty Revenue, Version 0.1.0 in Compliance with Order dated 9/30/2010, to be effective 10/1/2010.

Filed Date: 10/08/2010.

Accession Number: 20101008-5065.

Comment Date: 5 p.m. Eastern Time on Wednesday, October 20, 2010.

Docket Numbers: RP11-51-000.

Applicants: Northern Natural Gas Company.

Description: Northern Natural Gas Company submits tariff filing per 154.204: 20101008 MID 17 Modifications to be effective 9/24/2010.

Filed Date: 10/08/2010.

Accession Number: 20101008-5073.

Comment Date: 5 p.m. Eastern Time on Wednesday, October 20, 2010.

Docket Numbers: RP11-52-000.

Applicants: Gas Transmission Northwest Corporation.

Description: Gas Transmission Northwest Corporation submits tariff filing per 154.204: RP10-954 Update TOC to be effective 8/9/2010.

Filed Date: 10/08/2010.

Accession Number: 20101008-5117.

Comment Date: 5 p.m. Eastern Time on Wednesday, October 20, 2010.

Docket Numbers: RP11-53-000.

Applicants: ETC Tiger Pipeline, LLC.

Description: ETC Tiger Pipeline, LLC submits tariff filing per 154.203: ETC Tiger eTariff Baseline Filing to be effective 12/1/2010.

Filed Date: 10/08/2010.

Accession Number: 20101008-5153.

Comment Date: 5 p.m. Eastern Time on Wednesday, October 20, 2010.

Docket Numbers: RP11-54-000.

Applicants: Northern Natural Gas Company.

Description: Northern Natural Gas Company submits tariff filing per 154.204: 20101012 Miscellaneous Tariff Filing to be effective 11/12/2010.

Filed Date: 10/12/2010.

Accession Number: 20101012-5137.

Comment Date: 5 p.m. Eastern Time on Monday, October 25, 2010.

Docket Numbers: RP11-55-000.

Applicants: J.P. Morgan Ventures Energy Corporation Sempra Energy Trading LLC.

Description: Request of Sempra Energy Trading LLC and J.P. Morgan Ventures Energy Corporation for Temporary Waiver, Expedited Consideration, and Shortened Notice.

Filed Date: 10/08/2010.

Accession Number: 20101008-5170.

Comment Date: 5 p.m. Eastern Time on Friday, October 15, 2010.

Docket Numbers: RP11-56-000.

Applicants: Kinder Morgan Interstate Gas Transmission LLC.

Description: Kinder Morgan Interstate Gas Transmission LLC submits tariff filing per 154.203: Errata to Baseline Filing to be effective 8/13/2010.

Filed Date: 10/12/2010.

Accession Number: 20101012-5212.

Comment Date: 5 p.m. Eastern Time on Monday, October 25, 2010.

Docket Numbers: RP11-57-000.

Applicants: PetroLogistics Natural Gas Storage, LLC.

Description: PetroLogistics Natural Gas Storage, LLC submits tariff filing per 154.203: Proposed Revisions to FERC Gas Tariff to Comply with Order No. 587-U to be effective 11/1/2010.

Filed Date: 10/12/2010.

Accession Number: 20101012-5228.

Comment Date: 5 p.m. Eastern Time on Monday, October 25, 2010.

Docket Numbers: RP11-58-000.

Applicants: Fayetteville Express Pipeline LLC.

Description: Fayetteville Express Pipeline LLC submits tariff filing per 154.203: FEP Compliance with Order on Non-Conforming Agreements to be effective 10/1/2010.

Filed Date: 10/12/2010.

Accession Number: 20101012-5258.

Comment Date: 5 p.m. Eastern Time on Monday, October 25, 2010.

Docket Numbers: CP11-5-000.

Applicants: Rager Mountain Storage Company LLC.

Description: Rager Mountain Storage Company LLC submits the Abbreviated Application requesting authorization to lease and operate an existing natural gas storage facility in Interstate Commerce.

Filed Date: 10/07/2010.

Accession Number: 20101008-0207.

Comment Date: 5 p.m. Eastern Time on Monday, October 25, 2010.

Docket Numbers: CP11-6-000.

Applicants: Peoples Natural Gas Company LLC.

Description: Abbreviated Application of Peoples Natural Gas Company LLC for issuance of a limited jurisdiction certificate to authorize the lease and operation of Intrastate Storage Capacity in support of interstate.

Filed Date: 10/07/2010.

Accession Number: 20101008-0205.

Comment Date: 5 p.m. Eastern Time on Monday, October 25, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26854 Filed 10-22-10; 8:45 am]

BILLING CODE 6717-01-P